DEPARTMENT OF THE INTERIOR

Bureau of Indian Affairs

Land Acquisitions; Puyallup Tribe, Washington

AGENCY: Bureau of Indian Affairs, Interior.

ACTION: Notice of Final Agency Determination to Take Land into Trust under 25 CFR Part 151.

SUMMARY: The Assistant Secretary—Indian Affairs made a final agency determination to acquire approximately 10.2 acres of land into trust for the Puyallup Tribe of Washington on March 14, 2008. This notice is published in the exercise of authority delegated by the Secretary of the Interior to the Assistant Secretary—Indian Affairs by 209 Departmental Manual 8.1.

FOR FURTHER INFORMATION CONTACT: George Skibine, Director, Office of Indian Gaming, MS-3657 MIB, 1849 C Street, NW., Washington, DC 20240; Telephone (202) 219-4066.

SUPPLEMENTARY INFORMATION: This notice is published to comply with the requirement of 25 CFR 151.12(b) that notice be given to the public of the Secretary's decision to acquire land in trust at least 30 days prior to signatory acceptance of the land into trust. The purpose of the 30-day waiting period in 25 CFR 151.12(b) is to afford interested parties the opportunity to seek judicial review of final administrative decisions to take land in trust for Indian tribes and individual Indians before transfer of title to the property occurs. On March 14, 2008, the Assistant Secretary—Indian Affairs decided to accept approximately 10.2 acres of land into trust for the Puyallup Tribe of Washington. Pursuant to the Act of May 18, 2006, Public Law 109-224 (120 Stat. 376) Congress directed that the Secretary of the Interior accept the conveyance of certain specifically described tracts of land and hold that land in trust for the Puyallup Tribe. This tract of land is specifically identified in the Section 1(b) (1) and (2) of the statute. The statute specifically mandates that the Secretary “shall” accept the conveyance and hold the land in trust. The 10.2 acre parcel is located in the City of Fife, Pierce County, Washington.

The legal description of the property is as follows:

PARCEL A (0420076005)

Lots A, Boundary Line Adjustment recorded under recording number 9508150496, according to the map thereof recorded August 15, 1995, records of Pierce County Auditor.

EXCEPT that portion thereof lying North of a line that is 63.00 feet South of the Centerline of SR99 (Old State No. 1) as conveyed by instrument recorded under recording number 689874, records of Pierce County.

PARCEL B (0420076006)

Lot B, Boundary line adjustment 9508150496, according to the map thereof Recorded August 15, 1995, records of Pierce County Auditor.

EXCEPT that portion thereof lying North of a line that is 63.00 feet South of the centerline of SR99 (Old State Road No. 1) as conveyed by instrument recorded under recording number 689874, records of Pierce County.

Situate in the City of Fife, County of Pierce, State of Washington.

PARCEL C (0420076008)

Lot 4, Pierce County Short Plat No. 8908020412, according to the map thereof recorded August 2, 1995, records of Pierce County Auditor.

Together with portion of SR-5 abutting Lot 4, conveyed by deed recorded under recording no. 9309070433 described as follows:

That portion of Government Lot 1, Section 07, Township 20 North, Range 4 East of the Willamette Meridian, described as follows:

Commencing at Highway Engineer's Station (hereinafter referred to as HES) AL26 6+38.0 P.O.T. on the AL26 line survey of SR 5, Tacoma to King County line; THENCE South 88°54′30″ East along the North line of said Lot 1, a distance of 95 feet to the TRUE POINT OF BEGINNING; THENCE South 01°05′30″ West 87.4 feet; THENCE Westerly to a point opposite HES AL26 5+50.6 P.O.T. on said AL26 line survey and 75 feet Easterly therefrom; THENCE Northwesterly to a point opposite AL26 5+80.6 on said AL 26 line survey and 55 feet Easterly therefrom; THENCE Northerly parallel with said survey to the North line of said lot 1; THENCE North 88°54′30″ East to the TRUE POINT OF BEGINNING.

EXCEPT that portion of Lot 4 of said short plat No. 8908020412, conveyed to the State of Washington by deed recorded under Recording No. 9308100165 and more particularly described as follows:

Commencing at the Northeast corner of said Lot 4; THENCE North 89°53′30″ West along the North line of said Lot 4 a distance of 147.44 feet to the TRUE POINT OF BEGINNING and a point of curvature; THENCE Southwesterly along a curve to the left, the center of which bears South 00°06′30″ West, 55.00 feet distant, through a central angle of 89°01′00″ , an arc distance of 85.45 feet; THENCE South 01°05′30″ West, 59.43 Feet; THENCE North 88°54′30″ West, 20.00 feet to a point on the Westerly line of said Lot 4; THENCE North 00°57′10″ East along said Westerly line 113.15 feet to the Northwest corner of said Lot 4; THENCE South 89°53′30″ East along said North line, a distance of 74.34 feet to the TRUE POINT OF BEGINNING.

And EXCEPT that portion thereof lying North of a line that is 63.00 feet South of and parallel with the centerline of SR99 (Old State Road No. 1) as conveyed by instrument recorded under recording number 689874, records of Pierce County, Washington.

PARCEL D (0420076007)

Lot 3, Pierce County Short Plat No. 8908020412, according to the map thereof recorded August 2, 1989, Records of Pierce County Auditor.

EXCEPT that portion thereof lying North of a line that is 63.00 feet South of the centerline of SR99 (Old State Road No. 1) as conveyed by instrument recorded under recording number 689874, records of Pierce County.

Situate in the City of Fife, County of Pierce, State of Washington.

Containing 10.2 acres, more or less.

Dated: March 14, 2008.
Carl J. Artman,
Assistant Secretary—Indian Affairs.

[FR Doc. E8-5923 Filed 3-24-08; 8:45 am]

BILLING CODE 4310-4N-P